RAILROAD RETIREMENT BOARD

Agency Forms Submitted for OMB Review, Request for Comments

SUMMARY: In accordance with the Paperwork Reduction Act of 1995 (44 U.S.C. Chapter 35), the Railroad Retirement Board (RRB) is forwarding an Information Collection Request (ICR) to the Office of Information and Regulatory Affairs (OIRA), Office of Management and Budget (OMB) to request an extension without change of a currently approved collection of information: 3220-0171, RUIA Claims Notification System. Our ICR describes the information we seek to collect from the public. Review and approval by OIRA ensures that we impose appropriate paperwork burdens.

The RRB invites comments on the proposed collection of information to determine (1) The practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

Section 5(b) of the Railroad Unemployment Insurance Act (RUIA), requires that effective January 1, 1990, “when a claim for benefits is filed with the Railroad Retirement Board (RRB), the RRB shall provide notice of such claim to the claimant's base year employer or employers and afford such employer or employers an opportunity to submit information relevant to the claim before making an initial determination on the claim. When the RRB initially determines to pay benefits to a claimant under the RUIA, the RRB shall provide notice of such determination to the claimant's base-year employer or employers.”

The purpose of the RUIA Claims Notification System is to provide to unemployment and sickness claimant's base year employer or current employer, notice of each application and claim for benefits under the RUIA and to provide an opportunity for employers to convey information relevant to the proper adjudication of the claim. Railroad employers receive notice of applications and claims by one of three options. The first option, Form Letter ID-4K, is a computer generated form letter notice of all unemployment applications, unemployment claims and sickness claims received from employees of a railroad company on a particular day. Form Letters ID-4K are mailed on a daily basis to officials designated by railroad employers. The second option is an Electronic Data Interchange (EDI) version of the Form Letter ID-4K notice. EDI notices of applications are transmitted to participating railroads on a daily basis, generally on the same day that applications are received. The third option, an Internet equivalent ID-4K, provides the required notification by the RRB through the RRB's Internet-based Employer Reporting System (ERS). Completion is voluntary.

Railroad employers can respond to RRB notices of applications and claims manually by mailing a completed ID-4K back to the RRB or electronically via EDI or the ERS. No changes are being proposed to any of the ID-4K options.

Upon receipt of notice that the RRB has allowed a claim either in whole, or in part, the claimant's base-year employer(s) may request a review of the determination to pay benefits, if the employers believe the determination is incorrect. The RRB utilizes Form Letter ID-4DE, Notice of RUIA Claim Determinations, an Electronic Data Interchange (EDI) version of the Form Letter ID-4K notice and an Internet equivalent ID-4E to notify base-year employers that the RRB has made a determination to pay benefits and to allow them to request the RRB to review the determination. Form Letter ID-4E is mailed on a daily basis, generally on the same day that the claims are approved for payment. The EDI and Internet-equivalent ID-4E's are also sent to participating railroads on a daily basis, generally on the same day that the claims are approved for payment. Railroad employers can then request that the RRB review the determination either by filing a completed ID-4E by mail, EDI, or via the Internet. No changes are being proposed to any of the ID-4E options. Completion is voluntary.

Previous Requests for Comments: The RRB has already published the initial 60-day notice (73 FR 43480 on July 25, 2008) required by 44 U.S.C. 3506(c)(2). That request elicited no comments.

Information Collection Request (ICR)

Title: RUIA Claims Notification System.

OMB Control Number: OMB 3220-0171.

Form(s) submitted: ID-4K, ID-4K (INTERNET), ID-4E, ID-4E (INTERNET).

Type of request: Extension without change of a currently approved collection of information.

Affected public: Private Sector; Business-or-other for profits.

Abstract: Section 5(b) of the RUIA requires that effective January 1, 1990, when a claim for benefits is filed with the Railroad Retirement Board (RRB), the RRB shall provide notice of such claim to the claimant's base-year employer(s) and afford such employer(s) an opportunity to submit information relevant to the claim before making an initial determination on the claim. When the RRB determines to pay benefits to a claimant under the RUIA, the RRB shall provide notice of such determination to the claimant(s) base-year employer.

Changes Proposed: The RRB proposes no changes to the forms in the collection.

The burden estimate for the ICR is as follows:

The estimated annual respondent burden is as follows:

Form Number | Annual responses | Time (min) | Burden hours
ID-4K (Manual) | 1,250 | 2 | 42
ID-4K (EDI) | 14,850 | ** | 210
ID-4K (Internet) | 2,500 | 2 | 83
ID-4E (Manual) | 75 | 2 | 3
ID-4E (Internet) | 25 | 2 | 1
Total | 18,700 |  | 339
** The burden for the 5 participating employers who transmit EDI responses is calculated at 10 minutes each per day, 251 workdays a year or 210 total hours of burden.

Additional Information or Comments: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. E8-22593 Filed 9-24-08; 8:45 am]

BILLING CODE 7905-01-P